FEDERAL COMMUNICATIONS COMMISSION

[DA 00-1359]

Land Mobile Communications Council (LMCC) Low Power Plan in the 450-470 MHz Band

AGENCY: Federal Communications Commission.

ACTION: Notice.

SUMMARY: In this document, the Commission adopts a plan for low power operations in two pools—a Public Safety Pool and an Industrial/Business Pool. We will license only low power operations on specified frequencies pursuant to the Commission's rules. Channels that were removed from regularly-assignable channels and reserved for low power operation were reclassified as regularly-assignable channels available for high power operation. In so doing, we are promoting more efficient use of private land mobile radio.

ADDRESSES: Federal Communications Commission, 445 12th Street, SW., Washington, DC 20554.

FOR FURTHER INFORMATION CONTACT: Michael Wilhelm, Wireless Telecommunications Bureau, Public Safety and Private Wireless Division, (202) 418-0680.

SUPPLEMENTARY INFORMATION: The Public Notice was released on June 29, 2000. The document is available, in entirety, for inspection and copying during normal business hours in the FCC Reference Center (Room CY-A257), 445 12th Street, SW., Washington, DC 20554. It may also be purchased from the Commission's copy contractor, International Transcription Services, Inc. (ITS, Inc.) 1231 20th Street, NW., Washington, DC 20036, (202)857-3800. In addition, it is available on the Commission's website at http://www.fcc.gov/Bureaus/Wireless/Orders/2000/fcc00076.pdf.

Summary of the Public Notice

1. Implementing the Consensus Plan submitted by LMCC would require changes to the Commission's Rules. The plan did not appear to constitute the type of Consensus Plan originally envisioned by the Commission. The LMCC subsequently modified its plan. The “modified” Consensus Plan, submitted August 21, 1997, reserves 104 of the current 12.5 kHz offset channel pairs (and channel pairs 6.25 kHz directly above and below these channel pairs) specifically for low power operation—ninety (90) channel pairs in the Industrial/Business Pool and fourteen (14) channel pairs in the Public Safety Pool.

2. In the Second Memorandum Opinion and Order, 64 FR 36258 April 6, 1999, in the Refarming proceeding, the Commission stated that once it was satisfied that the LMCC plan is viable and consistent with the rules, the Wireless Telecommunication Bureau (WTB) would issue a Public Notice stating that the plan has been accepted. The Commission noted, however, that it would defer its acceptance of the LMCC low power plan until the matter concerning interference to medical telemetry is resolved.

3. On June 8, 2000, the Commission adopted a Report and Order, 65 FR 43995 July 17, 2000, ET Docket No. 99-255. This proceeding established a Wireless Medical Telemetry Service under part 95, of the Commission's rules, and allocated spectrum for medical telemetry operations. In addition, the Report and Order in this proceeding stated that the Commission would lift the freeze on high power use of the 12.5 kHz offset channels in the 450-460 MHz segment of the 450-470 MHz PLMR band based on the limited usage of this segment for medical telemetry. The Report and Order in this proceeding noted that WTB would issue a Public Notice concerning the details of lifting the freeze.

4. The Public Notice announces acceptance of LMCC's modified low power Consensus Plan. We will license only low power operations on the specified frequencies pursuant to § 90.267 of the Commission's Rules. A list of the 12.5 kHz offset frequencies in the 450-470 MHz band designated for low power use is attached to this document as Appendix A. Each frequency coordinator must maintain a current listing of frequencies designated for low power and make it available to the public upon request. As noted in the Refarming proceeding, the coordinators, by consensus, may change this list in the future.

List of Subjects in 47 CFR Part 90

Communications equipment, Radio.

Federal Communications Commission.
Magalie Roman Salas,
Secretary.

Appendix A—Channels Designated for Low Power Use

14 Channels, Low Power Public Safety Pool
453/458.0375 | 453/458.0625 | 453/458.0875 | 453/458.1125
453/458.1375 | 453/458.8875 | 453/458.9125 | 453/458.9375
453/458.9625 | 453/458.9875 | 460/465.4875 | 460/465.5125
460/465.5375 | 460/465.5625 |  |
90 Channels, Low Power Industrial/Business Pool
451/456.1875 | 451/456.2375 | 451/456.2875 | 451/456.3125
451/456.3375 | 451/456.3625 | 451/456.3875 | 451/456.4125
451/456.4375 | 451/456.4625 | 451/456.4875 | 451/456.5125
451/456.5375 | 451/456.5625 | 451/456.5875 | 451/456.6125
451/456.6375 | 451/456.6625 | 451/456.6875 | 451/456.7125
451/456.7375 | 451/456.7625 | 452/457.0375 | 452/457.0625
452/457.0875 | 452/457.1125 | 452/457.1375 | 452/457.1625
452/457.1875 | 452/457.2875 | 452/457.3125 | 452/457.4125
452/457.4875 | 452/457.5125 | 452/457.5375 | 452/457.6375
452/457.6625 | 452/457.6875 | 452/457.7125 | 452/457.7625
452/457.7875 | 452/457.8125 | 452/457.8375 | 452/457.8625
452/457.8875 | 452/457.9875 | 460/465.9125 | 460/465.9375
460/465.9625 | 460/465.9875 | 461/466.0125 | 461/466.0375
461/466.0625 | 461/466.0875 | 461/466.1125 | 461/466.1375
461/466.1625 | 461/466.1875 | 461/466.2125 | 461/466.2375
461/466.2625 | 461/466.2875 | 461/466.3125 | 461/466.3375
461/466.3625 | 462/467.1875 | 462/467.4625 | 462/467.4875
462/467.5125 | 462/467.2125 | 462/467.2375 | 462.467.2625
462.467.2875 | 462/467.3125 | 462/467.3375 | 462/467.3625
462/467.3875 | 462/467.4125 | 462/467.4375 | 462/467.7625
462/467.7875 | 462/467.8125 | 462/467.8375 | 462/467.8625
462/467.8875 | 462/467.9125 | 464/469.4875 | 464/469.5125
464/469.5375 | 464/469.5625

[FR Doc. 00-20105 Filed 8-8-00; 8:45 am]

BILLING CODE 6712-01-U